DEPARTMENT OF HEALTH AND HUMAN SERVICES

Agency for Healthcare Research and Quality

Opportunity To Co-sponsor an AHRQ Research Conference

AGENCY: Agency for Healthcare Research and Quality (AHRQ), HHS.

ACTION: Notice of opportunity to co-sponsor an AHRQ Conference.

SUMMARY: AHRQ announces the opportunity for non-Federal public and private sector entities to co-sponsor an AHRQ conference in the Washington, DC area in early March, 2015. Potential co-sponsors must have a demonstrated interest and experience in health services research, implementation, and evaluation. Potential co-sponsors must also be capable of sponsoring and managing various discrete sessions or events associated with the conference and be willing to participate substantively in the co-sponsored activity.

DATES: To receive consideration for this opportunity, a proposal to participate as a co-sponsor must be received by AHRQ by 5 p.m. EDT May 5, 2014 at the address listed below. Proposals will meet the deadline if they are either (1) received or (2) postmarked on or before the deadline. Privately metered postmarks will not be accepted as proof of timely mailing. Proposals received after the established deadline will not be considered.

ADDRESSES: Proposals for co-sponsorship should be sent to Ms. Jaime Zimmerman, Agency for Healthcare Research and Quality, 540 Gaither Road, Room 3006, Rockville, Maryland 20850. Proposals may also be emailed to Jaime.zimmerman@ahrq.hhs.gov.

FOR FURTHER INFORMATION CONTACT: Ms. Jaime Zimmerman, Agency for Healthcare Research and Quality, 540 Gaither Road, Rockville, Maryland, 20850; (301) 427-1456; Jaime.zimmerman@ahrq.hhs.gov.

SUPPLEMENTARY INFORMATION:

Description

AHRQ was originally created as the Agency for Health Care Policy and Research on December 19, 1989, under the Omnibus Budget Reconciliation Act of 1989, as a Public Health Service Agency in the U.S. Department of Health and Human Services (HHS). The agency was reauthorized on December 6, 1999, by the Healthcare Research and Quality Act of 1999, and re-named the Agency for Healthcare Research and Quality.

AHRQ's mission is to produce evidence to make health care safer, higher quality, more accessible, equitable, and affordable, and to work with HHS and other partners to make sure that the evidence is understood and used.

AHRQ's priority areas of focus are:

• Improve health care quality by accelerating implementation of patient-centered outcomes research.

• Make health care safer and reduce the number of patients who experience preventable harm in the course of receiving care.

• Increase accessibility by providing evidence on the effects of expanding insurance coverage.

• Improve health care affordability, efficiency, and cost transparency.

The purpose of the conference, consistent with AHRQ's mission, is to bring together grantees, contractors, and others who produce AHRQ-supported research and products with stakeholders who can use those findings and products to achieve measurable improvements in the health care services patients receive. The conference provides additional opportunities to ensure that AHRQ-supported research is delivering the expected results—namely, independent, user-driven research that can help people and organizations at all levels of health care. The conference's goal is to focus on the results of AHRQ's research, share best practices, and demonstrate how these findings provide solutions for the challenges facing today's health care system. The conference also provides opportunities to interact with grantees, contractors, and users who can implement research-based solutions to improve care.

The co-sponsors will assist with conference and agenda development, strategic messaging, coordination, financial management, and meeting logistics in conjunction with AHRQ staff. A co-sponsor can charge registration fees to recover costs associated with its sponsored events; however, a co-sponsor may not set registration fees at an amount higher than necessary to recover a co-sponsor's related conference expenses. Further, the co-sponsor is solely responsible for collecting, holding and disbursing any registration fees it collects.

Eligibility for Co-Sponsorship: To be eligible, a potential co-sponsor shall: (1) Have a demonstrated understanding, commitment, and experience in conducting and/or sponsoring health services research, especially as it relates to one or more of AHRQ's priority areas; (2) be knowledgeable about strategies for disseminating and implementing research findings, products, and tools and fostering changes in practice and health care policy; (3) have a track record in using a variety of methods for evaluating research impact; (4) participate substantively in the co-sponsored activity, not just provide funding or logistical support; and (5) have an organizational or corporate mission that is consistent with AHRQ and HHS.

The selected co-sponsoring organization(s) shall furnish the necessary personnel, materials, services, and facilities to administer its responsibility for the conference. These duties will be outlined in a co-sponsorship agreement with AHRQ that will set forth the details of the co-sponsored activity, including the requirements that any fees collected by the co-sponsor shall be limited to the amount necessary to cover the co-sponsor's related conference expenses. A co-sponsorship agreement may include the following language:

Model Co-Sponsorship Agreement

The Department of Health and Human Services (HHS) [or name of subcomponent] and [name of co-sponsor] agree to co-sponsor [name of event], according to the terms expressed below:

1. Background

[Provide the following information: (a) The nature and purpose of the event; (b) the identity and background of the co-sponsor(s); (c) the importance of the event to both HHS and the co-sponsor; (d) the substantive interest and special expertise of the co-sponsor in the subject matter of the event; (e) any other relevant background information that may explain the mutual interest of HHS and the co-sponsor in working together on the event.]

2. Responsibilities for Developing the Event

[Provide the following information: (a) The respective responsibilities of HHS and the co-sponsor for developing the substantive aspects of the event, such as the agenda and speakers; (b) the respective responsibilities of HHS and the co-sponsor for logistics and finances, such as arranging and paying for conference facilities, advertising, food, and any other event expenses. Note: This is the core paragraph of the co-sponsorship agreement, and it should reflect as much detail as HHS and the co-sponsor reasonably can provide.]

3. Registration Fees and Other Charges

[Provide the following information: (a) State whether the co-sponsor intends to charge registration fees, and, if so, state that the co-sponsor agrees to set a fee no higher than necessary to recover its share of the costs of the event; (b) state whether HHS and the co-sponsor agree that HHS employees will be allowed free attendance at the event; (c) state whether the co-sponsor intends to sell educational materials pertaining to the event or transcripts or recordings of the event, and, if so, state that the co-sponsor agrees to sell such items at cost.]

4. Independently Sponsored Portions of Event

[Provide the following information: (a) State whether either HHS or the co-sponsor intends to sponsor any discrete portion of the event independently; (b) describe any separately sponsored portion; (c) state that HHS resources, including staff, will not be used to develop, promote or otherwise support a portion of the event that is independently sponsored by the co-sponsor, although official announcements and brochures may contain factual references to the schedule of the entire event, including portions sponsored solely by the co-sponsor.]

5. Fundraising

[Name of co-sponsor] will make clear, in any solicitation for funds to cover its share of the event costs, that it, not HHS, is asking for the funds. [Name of co-sponsor] will not imply that HHS endorses any fundraising activities in connection with the event. [Name of co-sponsor] will make clear to donors that any gift will go solely toward defraying the expenses of [name of co-sponsor], not HHS.

6. Promotional Activity

[Name of co-sponsor] will not use the event primarily as a vehicle to sell or promote products or services. [Name of co-sponsor] will ensure that any incidental promotional activity does not imply that HHS endorses any products or services. [Name of co-sponsor] will make reasonable efforts, subject to HHS review, to segregate any incidental promotional activity from the main activities of the event.

7. Event Publicity and Endorsements

[Name of co-sponsor] will not use the name of HHS or any of its components, except in factual publicity for the specific event. Factual publicity includes dates, times, locations, purposes, agendas, fees, and speakers involved with the event. Such factual publicity shall not imply that the involvement of HHS in the event serves as an endorsement of the general policies, activities, or products of [name of co-sponsor]; where confusion could result, publicity should be accompanied by a disclaimer to the effect that no endorsement is intended. [Name of co-sponsor] will clear all publicity materials for the event with HHS to ensure compliance with this paragraph.

8. Records

Records concerning the event shall account fully and accurately for the financial commitments and expenditures of HHS and [name of co-sponsor]. Such records shall reflect, at a minimum, the amounts, sources, and uses of all funds.

9. Public Availability

This co-sponsorship agreement, as well as the financial records described in paragraph 8, shall be publicly available.

10. Co-Sponsorship Guidance

HHS and [name of co-sponsor] will abide by the legal memorandum of August 8, 2002, entitled “Co-Sponsorship Guidance,” issued by the HHS Designated Agency Ethics Official. Co-Sponsorship Proposal: Each co-sponsorship proposal shall contain a description of: (1) The entity or organization's background and history, (2) its ability to satisfy the co-sponsorship criteria detailed above, and (3) its proposed involvement in the co-sponsored activity.

Evaluation Criteria: After engaging in exploratory discussions with potential co-sponsors that respond to this notice, AHRQ will select the co-sponsor or co-sponsors using the following evaluation criteria:

(1) Qualifications and capability to fulfill co-sponsorship responsibilities;

(2) Creativity related to enhancing the conference, including options for interactive sessions and ideas for improving the event based on the 2012 conference offerings;

(3) Potential for reaching and generating attendees from among key stakeholders, including Federal, State and local policymakers, health care providers, consumers and patients, purchasers and payers, and other health officials and underserved/special populations;

(4) Experience administering conferences;

(5) Past or current work specific to health services research;

(6) Personnel names, professional qualifications, and specific expertise with conference planning;

(7) Availability and description of facilities needed to participate in and support the conference planning process, including office space, information technology, and telecommunication resources;

(8) Description of financial management expertise, including demonstration of experience in developing a budget and collecting and managing monies from organizations and individuals; and,

(9) Proposed plan for managing a conference with AHRQ.

Dated: March 28, 2014.
Richard Kronick,
Director, Agency for Healthcare Research and Quality.

[FR Doc. 2014-07562 Filed 4-3-14; 8:45 am]

BILLING CODE 4160-90-P